DEPARTMENT OF THE TREASURY

Office of Foreign Assets Control

Notice of OFAC Sanctions Action

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Actions

On March 10, 2021, OFAC determined that the property and interests in property subject to U.S. jurisdiction of the following persons are blocked under the relevant sanctions authority listed below.

Individuals

1. MON, Khin Thiri Thet (a.k.a. MON, Daw Khin Thiri Thet), Burma; DOB 05 Dec 1981; nationality Burma; Gender Female; National ID No. 12/MABANA(N)093656 (Burma) (individual) [BURMA-EO14014].

Designated pursuant to section 1(a)(v) of Executive Order of February 10, 2021, “Blocking Property With Respect To The Situation In Burma” (“the Order”) for being a foreign person that is the spouse or adult child of any person whose property and interests in property are blocked pursuant to the Order.

2. SONE, Aung Pyae (a.k.a. SONE, U Aung Pyae), Burma; DOB 24 Jun 1984; nationality Burma; Gender Male; National ID No. 12/SAKHANA(N)062210 (Burma) (individual) [BURMA-EO14014].

Designated pursuant to section 1(a)(v) of the Order for being a foreign person that is the spouse or adult child of any person whose property and interests in property are blocked pursuant to the Order.

Entities

1. A & M MAHAR COMPANY LIMITED (a.k.a. A AND M MAHAR COMPANY LIMITED), Royal Sinmin Condo Room (1/D), First Floor, Tower-A, Ahlone Township, Yangon Region, Burma; Organization Established Date 16 Jan 2017; Registration Number 110364903 (Burma) issued 16 Jan 2017 [BURMA-EO14014].

Designated pursuant to section 1(a)(vii) of the Order for being a foreign person that is owned or controlled by, or has acted or purported to act for or on behalf of, directly or indirectly, the military or security forces of Burma or any person whose property and interests in property are blocked pursuant to the Order.

2. EVERFIT COMPANY LIMITED, City Mall, Corner of Pyay Road And Min Ye Kyaw Swar Road, Level-3, Lan Ma Daw Township, Yangon, Burma; Registration Number 116795779 (Burma) issued 29 Feb 2016 [BURMA-EO14014].

Designated pursuant to section 1(a)(vii) of the Order for being a foreign person that is owned or controlled by, or has acted or purported to act for or on behalf of, directly or indirectly, the military or security forces of Burma or any person whose property and interests in property are blocked pursuant to the Order.

3. SEVENTH SENSE COMPANY LIMITED (a.k.a. 7TH SENSE CREATION), Thu Khi Tar Street, No.3 Bauk Htaw (15) Quarter, Yankin Township, Yangon, Burma; Registration Number 119554144 (Burma) issued 03 Apr 2017 [BURMA-EO14014].

Designated pursuant to section 1(a)(vii) of the Order for being a foreign person who is owned or controlled by, or has acted or purported to act for or on behalf of, directly or indirectly, the military or security forces of Burma or any person whose property and interests in property are blocked pursuant to the Order.

4. SKY ONE CONSTRUCTION COMPANY LIMITED, Corner of Aung Chan Thar 2nd Street & Pearl Street No. 42, 1st Quarter, Kamaryut TSP, Yangon, Burma; Registration Number 111725152 (Burma) issued 09 Apr 2013 [BURMA-EO14014].

Designated pursuant to section 1(a)(vii) of the Order for being a foreign person who is owned or controlled by, or has acted or purported to act for or on behalf of, directly or indirectly, the military or security forces of Burma or any person whose property and interests in property are blocked pursuant to the Order.

5. THE YANGON GALLERY (a.k.a. YANGON GALLERY), People's Park Compound, Near Planetarium Museum, Ahlone Road, Dagon Township, Yangon, Burma; People's Park Compound, Near Planetarium Museum, Ahlon Road, Dagon Township, Yangon, Burma; Phone Number 09 738 27777 [BURMA-EO14014].

Designated pursuant to section 1(a)(vii) of the Order for being a foreign person who is owned or controlled by, or has acted or purported to act for or on behalf of, directly or indirectly, the military or security forces of Burma or any person whose property and interests in property are blocked pursuant to the Order.

6. THE YANGON RESTAURANT, People's Park Compound, Near Planetarium Museum, Ahlone Road, Dagon Township, Yangon, Burma; Email Address reservations@theyangonrestaurant.com; Phone Number 95 013 70177; Organization Type: Restaurants and mobile food service activities [BURMA-EO14014].

Designated pursuant to section 1(a)(vii) of the Order for being a foreign person who is owned or controlled by, or has acted or purported to act for or on behalf of, directly or indirectly, the military or security forces of Burma or any person whose property and interests in property are blocked pursuant to the Order.

Dated: March 10, 2021.
Bradley T. Smith,
Acting Director, Office of Foreign Assets Control.

[FR Doc. 2021-05509 Filed 3-16-21; 8:45 am]

BILLING CODE 4810-AL-P